DEPARTMENT OF DEFENSE

Office of the Secretary

[Docket ID: DoD-2013-OS-0006]

Privacy Act of 1974; System of Records

AGENCY: Office of the Secretary of Defense, DoD.

ACTION: Notice to alter a System of Records.

SUMMARY: The Office of the Secretary of Defense proposes to alter a system of records in its inventory of record systems subject to the Privacy Act of 1974 (5 U.S.C. 552a), as amended.

DATES: This proposed action will be effective on February 28, 2013 unless comments are received which result in a contrary determination. Comments will be accepted on or before February 27, 2013.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT. The proposed system report, as required by U.S.C. 552a(r) of the Privacy Act of 1974, as amended, was submitted on December 27, 2012, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 23, 2013.
Aaron Siegel,
Alternate OSD Federal Register Liaison Officer, Department of Defense.

DHA 19

System name:

Defense Occupational & Environmental Health Readiness System—Industrial Hygiene (DOEHRS-IH) (August 26, 2010, 75 FR 52513).

Changes:

* * * * *

System location:

Delete entry and replace with “Defense Information Systems Agency (DISA), 3326 General Hudnell Drive, San Antonio, Texas 78226-1834.”

Categories of individuals covered by the system:

Delete entry and replace with “Members of the Armed Forces; Department of Defense (DoD)-affiliated personnel (includes DoD civilian employees, DoD contractors, and DoD foreign national employees) who live or work in areas requiring longitudinal data related to occupational, environmental, or public health.

Spouses and dependents of members of the Armed Forces and DoD-affiliated personnel if such spouse or dependent is in the area of a perceived or actual occupational, environmental, or public health event.”

Categories of records in the system:

Delete entry and replace with “Identifying records: Individual's name, Social Security Number (SSN), DoD Identification Number (DoD ID Number) (or foreign identification number), date of birth, gender, race/ethnicity, citizenship, home and work email address, occupation, pay plan, pay grade, rank, service affiliation, assigned unit government agency affiliation, business address and telephone number.

Event-based records include home or local address and telephone number.

Designated event records: Occupational, environmental, and public health data on the nature and/or scope of the event and monitoring and/or surveillance data; personal protective equipment recommendations and usage; observed occupational and environmental health practices; individual health education and training data; public health emergency, disaster, and incident response occupational and environmental monitoring and/or surveillance data; location reporting on an individual's location(s) and time at those location(s) within the designated threat area; medical countermeasure recommendations and use; and population health education data.”

Authority for maintenance of the system:

Delete entry and replace with “10 U.S.C. 133, Under Secretary of Defense for Acquisition, Technology, and Logistics; 10 U.S.C. 136, Under Secretary of Defense for Personnel and Readiness; 10 U.S.C Chapter 55, Medical and Dental Care; 29 U.S.C 651, Congressional Statement of Findings and Declaration of Purpose and Policy; DoDD 4715.1E, Environment, Safety, and Occupational Health (ESOH); DoDI 6055.1, DoD Safety and Occupational Health (SOH) Program; DoDI 6055.05, Occupational and Environmental Health (OEH); DoDI 6055.17, DoD Installation Emergency Management (IEM) Program; DoDI 6200.03, Public Health Emergency Management Within the Department of Defense; and E.O. 9397 (SSN), as amended.”

Purpose(s):

Delete entry and replace with “To establish a database for longitudinal exposure recordkeeping and reporting to support occupational and environmental health surveillance (OEHS), public health surveillance, health risk management, and medical surveillance; and to provide this data in support of medical treatment, occupational and environmental illness evaluations, disability determinations, and claims adjudication.

To complete the collection and analysis of threat exposures for designated event areas in all phases of military operations and as a result of actual or perceived natural disasters, hazardous material releases, chemical/biological/nuclear accidents which may affect DoD-affiliated personnel.”

Routine uses of records maintained in the system, including categories of users and the purposes of such uses:

Delete entry and replace with “In addition to those disclosures generally permitted under 5 U.S.C. 552a(b) of the Privacy Act of 1974, as amended, these records may specifically be disclosed outside the DoD as a routine use pursuant to 5 U.S.C. 552a(b)(3) as follows:

To the Departments of Veterans Affairs (VA) and Labor (DOL), and the Social Security Administration, to support the adjudication of disability and other pending claims of individuals.

To the VA, and other federal agencies and private physicians to inform and support the medical care of individuals.

To the Department of Health and Human Services and the Occupational Health and Safety Administration, and other federal agencies to comply with statutory and regulatory requirements.

To government and non-government organizations for the conduct of health-related research, including epidemiologic studies, following review by an Institutional Review Board. The DoD Blanket Routine Uses set forth at the beginning of the Office of the Secretary of Defense (OSD) compilation of systems of records notices apply to this system.

Note: This system of records may contain individually identifiable health information. The DoD Health Information Privacy Regulation (DoD 6025.18-R), issued pursuant to the Health Insurance Portability and Accountability Act of 1996 (HIPAA) and 45 CFR Parts 160 and 164, Health and Human Services, General Administrative Requirements and Security & Privacy, respectively, applies to most such health information. DoD 6025.18-R may place additional procedural requirements on the uses and disclosures of such information beyond those found in the Privacy Act of 1974, as amended, or mentioned in this system of records notice.”

Policies and practices for storing, retrieving, accessing, retaining, and disposing of records in the system:

Storage:

Delete entry and replace with “Electronic storage media.”

Retrievability:

Delete entry and replace with “By individual SSN, DoD ID Number, foreign identification number (if applicable) and/or name, or any combination of the foregoing.”

Safeguards:

Delete entry and replace with “Physical access to system location restricted by cipher locks, visitor escort, access rosters, and photo identification. Adequate locks are on doors and server components are secured in a locked computer room with limited access. All visitors and other persons are escorted by appropriately screened/cleared personnel at all times.

Access to the system requires two-factor authentication including Common Access Card (CAC) or, for some users, a user name and password (which must be renewed every sixty (60) days). Authorized personnel must have appropriate Information Assurance, HIPAA, and Privacy Act of 1974 training.”

Retention and disposal:

Delete entry and replace with “Disposition pending (treat records as permanent until the National Archives and Records Administration (NARA) approves the proposed retention and disposition).”

System manager(s) and address:

Delete entry and replace with “Program Manager, Defense Health Services Systems, Defense Health Headquarters, Suite 5101, 7700 Arlington Boulevard, Falls Church, VA 22042-5101.”

Notification procedure:

Delete entry and replace with “Individuals seeking to determine whether information about themselves is contained in this system of records should address written inquiries to TMA Privacy Officer, TMA Privacy and Civil Liberties Office, 7700 Arlington Boulevard, Suite 5101, Falls Church, VA 22042-5101.

Requests should contain the individual's full name and SSN and/or DoD ID Number, or foreign identification number, as applicable.

If requesting the health information of a minor (or legally incompetent person), the request must be made by that individual's parent, guardian, or person acting in loco parentis. Written proof of the capacity of the requester may be required.”

Record access procedures:

Delete entry and replace with “Individuals seeking access to information about themselves contained in this system of records should address written requests to the TRICARE Management Activity, ATTN: Freedom of Information Act Requester Service Center, 16401 Centretech Parkway, Aurora, Colorado 80011-9066.

Requests should contain the individual's full name, SSN, DoD ID Number, or foreign identification number, as applicable.

If requesting the health information of a minor (or legally incompetent person), the request must be made by that individual's parent, guardian, or person acting in loco parentis. Written proof of the capacity of the requester may be required.”

Contesting record procedures:

Delete entry and replace with “The OSD rules for accessing records, for contesting contents and appealing initial agency determinations are published in OSD Administrative Instruction 81, 32 CFR Part 311, or may be obtained from the system manager.”

Record source categories:

Delete entry and replace with “Selected electronic data elements extracted from the Defense Enrollment Eligibility Reporting System (DEERS), DoD and Service-level accountability systems, as well as industrial hygienists, bioenvironmental engineers, public health officers, environmental science officers, and other professionals supporting the authorities cited.”

* * * * *

[FR Doc. 2013-01694 Filed 1-25-13; 8:45 am]

BILLING CODE 5001-06-P